DEPARTMENT OF TRANSPORTATION

Pipeline and Hazardous Materials Safety Administration

49 CFR Parts 172 and 174

[RSPA Docket No. 2006-26322 (HM-206F)]

RIN 2137-AE21

Hazardous Materials: Revision of Requirements for Emergency Response Telephone Numbers

Correction

In rule document E9-24799 beginning on page 53413 in the issue of Monday, October 19, 2009, make the following correction:

On page 53413, in the third column, under the DATES section, in the second line, “November 18, 2009” should read “October 1, 2010”.

[FR Doc. Z9-24799 Filed 10-21-09; 8:45 am]

BILLING CODE 1505-01-D